DEPARTMENT OF DEFENSE

Department of the Army, Corps of Engineers

33 CFR Part 279

[COE-2020-0011]

RIN 0702-AA97

Resource Use: Establishment of Objectives

AGENCY: U.S. Army Corps of Engineers, Department of Defense.

ACTION: Final rule.

SUMMARY: This final rule removes the U.S. Army Corps of Engineers' part titled Resource Use: Establishment of Objectives. Each removed section of this part is redundant of or otherwise covers internal agency operations that have no public compliance component or adverse public impact. Current policy and procedures on this subject can be found in internal documents. Therefore, this part can be removed from the Code of Federal Regulations (CFR).

DATES: This rule is effective on January 15, 2021.

ADDRESSES: Department of the Army, U.S. Army Corps of Engineers, ATTN: CECW-P (Ms. Patricia Mutschler), 441 G Street NW, Washington, DC 20314-1000.

FOR FURTHER INFORMATION CONTACT: Ms. Patricia Mutschler at (202) 761-4744 or by email at Patricia.L.Mutschler@usace.army.mil.

SUPPLEMENTARY INFORMATION: This final rule removes from the CFR 33 CFR part 279, Resource Use: Establishment of Objectives. The rule was initially published in the Federal Register on April 4, 1978 (43 FR 14014). The regulation provided policy and guidance for establishing resource use objectives for all Civil Works water resource projects during Phase I/Phase II post-authorization studies and reevaluation of completed projects. Resource use objectives, as defined in the regulation, are clearly written statements, specific to a given project, which specify the attainable options for resource use as determined from study and analysis of resource capabilities and public needs (opportunities and problems). It was published, at that time, in the Federal Register to aid public accessibility. The solicitation of public comment for this removal is unnecessary because the rule is redundant of or otherwise covers internal agency operations that have no public compliance component or adverse public impact. For current public accessibility purposes, implementation guidance and procedures for the establishment of resource use objectives related to the formulation of recommended plans for water resources development projects are now found in Engineer Regulation 1105-2-100, “Planning Guidance Notebook” (available at https://www.publications.usace.army.mil/Portals/76/Publications/EngineerRegulations/ER_1105-2-100.pdf); and Engineer Regulation and Pamphlet 1130-2-550, “Recreation Operations and Maintenance Guidance and Procedures, Chapter 3” (available at https://www.publications.usace.army.mil/Portals/76/Publications/EngineerRegulations/ER_1130-2-550.pdf and https://www.publications.usace.army.mil/Portals/76/Publications/EngineerPamphlets/EP_1130-2-550.pdf). In addition, environmental evaluation is required under the National Environmental Policy Act of 1969 (NEPA; 42 U.S.C. 4321-4347), and is implemented by the Corps pursuant to 33 CFR part 230.

This rule removal is being conducted to reduce confusion for the public as well as for the Corps regarding the current policy which governs the Corps' establishment of resource use objectives. Because the regulation does not place a burden on the public, its removal does not provide a reduction in public burden or costs.

This rule is not significant under Executive Order (E.O.) 12866, “Regulatory Planning and Review.” Therefore, the requirements of E.O. 13771, “Reducing Regulation and Controlling Regulatory Costs,” do not apply. This removal supports a recommendation of the DoD Regulatory Reform Task Force.

List of Subjects in 33 CFR Part 279

Natural resources, Water resources.

PART 279—[REMOVED]

Accordingly, for the reasons stated in the preamble and under the authority of 5 U.S.C. 301, the Corps removes 33 CFR part 279.

Approved by:
R.D. James,
Assistant Secretary of the Army (Civil Works).

[FR Doc. 2020-28127 Filed 1-14-21; 8:45 am]

BILLING CODE 3720-58-P